Title 3—

The President

Memorandum of June 25, 2010

Providing Stability and Security for Medicare Reimbursements

Memorandum for the Secretary of Health and Human Services

I have today signed into law H.R. 3962, the “Preservation of Access to Care for Medicare Beneficiaries and Pension Relief Act of 2010”, which averts a 21.3 percent reduction in the Medicare physician fee schedule and replaces it with a 2.2 percent increase through November 2010. By this memorandum, I request that you immediately take the following steps to minimize any disruption to, or administrative burden on, Medicare physicians and other affected providers and to minimize any disruption in the ability of Medicare beneficiaries to access necessary services:

(a) Direct the Medicare claims administration contractors to immediately implement the legislative update to the physician fee schedule conversion factor;

(b) Provide all appropriate resources for the Medicare claims administration contractors to ensure the update is implemented as rapidly as possible;

(c) Direct the Medicare claims administration contractors to automatically reprocess, to the extent feasible, any claims reflecting the 21.3 percent fee schedule reduction, in order to relieve the administrative burden on physician practices;

(d) Take all necessary steps, to the extent permitted by law, to protect Medicare beneficiaries from any disruption to their access to services that may be occasioned by the reprocessing of claims; and

(e) Reopen the 2010 Annual Participation Enrollment Program through July 16, 2010, to allow physicians and other affected providers an additional opportunity to participate in Medicare.

This memorandum is not intended to, and does not, create any right or benefit, substantive or procedural, enforceable at law or in equity by any party against the United States, its departments, agencies, or entities, its officers, employees, or agents, or any other person.

You are hereby authorized and directed to publish this memorandum in the Federal Register.

THE WHITE HOUSE,

Washington, June 25, 2010.

[FR Doc. 2010-16128

Filed 6-29-10; 11:15 am]

Billing code 4150-42-P